DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Cancer Institute Special Emphasis Panel, Novel Imaging Agents to Expand the Clinical Toolkit for Cancer Diagnosis, Staging, and Treatment.

Date: May 29, 2013.

Time: 12:00 p.m. to 2:00 p.m.

Agenda: To review and evaluate contract proposals.

Place: National Cancer Institute, 9609 Medical Center Drive, Room 4W034, Rockville, MD 20850 (Telephone Conference Call).

Contact Person: Sonya Roberson, Ph.D., Health Scientist Administrator, Resources and Training Review Branch, Division of Extramural Activities, National Cancer Institute, 9609 Medical Center Drive, Room 7W116, Bethesda, MD 20892-8328, 240-276-6347, robersos@mail.nih.gov.

This notice is being published less than 15 days prior to the meeting date due to scheduling conflicts.

Name of Committee: National Cancer Institute Special Emphasis Panel, Cancer Theranostics II.

Date: June 3, 2013.

Time: 11:00 a.m. to 3:00 p.m.

Agenda: To review and evaluate contract proposals.

Place: National Institutes of Health, 9609 Medical Center Drive, Room 7W030, Rockville, MD 20850 (Telephone Conference Call).

Contact Person: Savvas C Makrides, Ph.D., Scientific Review Officer, Special Review and Logistics Branch, Division of Extramural Activities, National Cancer Institute, NIH, 9609 Medical Center Drive, Room 7W246, Bethesda, MD 20892-8328, 240-276-6374, makridessc@mail.nih.gov.

Name of Committee: National Cancer Institute Special Emphasis Panel, Companion Diagnostics—Phase II.

Date: June 5, 2013.

Time: 10:00 a.m. to 2:00 p.m.

Agenda: To review and evaluate contract proposals.

Place: National Institutes of Health, 9609 Medical Center Drive, Room 7W032, Rockville, MD 20850 (Telephone Conference Call).

Contact Person: Adriana Stoica, Ph.D., Scientific Review Officer, Special Review and Logistics Branch, Division of Extramural Activities, National Cancer Institute, NIH, 9609 Medical Center Drive, Room 7W234, Bethesda, MD 20892-8328, 240-276-6368, Stoicaa2@mail.nih.gov.

Name of Committee: National Cancer Institute Special Emphasis Panel, Pharmacodynamic Assays TX2 of 2.

Date: June 6, 2013.

Time: 1:00 p.m. to 3:00 p.m.

Agenda: To review and evaluate contract proposals.

Place: National Cancer Institute, 9609 Medical Center Drive, Room 7W034, Rockville, MD 20850 (Telephone Conference Call).

Contact Person: Thomas M Vollberg, Ph.D., Scientific Review Officer, Special Review and Logistics Branch, Division of Extramural Activities, National Cancer Institute, NIH, 9609 Medical Center Drive, Room 7W102, Bethesda, MD 20892-8328, 240-276-6341, vollbert@mail.nih.gov.

Name of Committee: National Cancer Institute Special Emphasis Panel, Biosensors for Early Cancer Detection and Risk Assessment.

Date: June 10, 2013.

Time: 11:00 a.m. to 1:00 p.m.

Agenda: To review and evaluate contract proposals.

Place: National Institutes of Health, 9609 Medical Center Drive, Room 6W032, Rockville, MD 20850 (Telephone Conference Call).

Contact Person: Kenneth L. Bielat, Ph.D., Scientific Review Officer, Special Review and Logistics Branch, Division of Extramural Activities, National Cancer Institute, 9609 Medical Center Drive, Room 7W244, Bethesda, MD 20892-8329, 240-276-6373, bielatk@mail.nih.gov.

Name of Committee: National Cancer Institute Special Emphasis Panel, Radioprotector/Mitigator Development to Decrease Normal Tissue Injury During Radiotherapy.

Date: June 13, 2013.

Time: 12:00 p.m. to 3:00 p.m.

Agenda: To review and evaluate contract proposals.

Place: National Cancer Institute Shady Grove, 9609 Medical Center Drive, Room 7W302, Rockville, MD 20850 (Telephone Conference Call).

Contact Person: Viatcheslav A Soldatenkov, MD, Ph.D., Scientific Review Officer, Special Review and Logistics Branch, Division of Extramural Activities, National Cancer Institute, NIH, 9609 Medical Center Drive, Room 7W254, Bethesda, MD 20892-8329, 240-276-6378, soldatenkovv@mail.nih.gov.

Name of Committee: National Cancer Institute Special Emphasis Panel, Development of a Molecular Diagnostic Assay to Detect Basal-like Breast Cancer.

Date: June 13, 2013.

Time: 12:00 p.m. to 1:00 p.m.

Agenda: To review and evaluate contract proposals.

Place: National Institutes of Health, 9609 Medical Center Drive, Room 6W032, Rockville, MD 20850 (Telephone Conference Call).

Contact Person: Sonya Roberson, Ph.D., Health Scientist Administrator, Resources and Training Review Branch, Division Of Extramural Activities, National Cancer Institute, NIH, 9609 Medical Center Drive, Room 7W116, Bethesda, MD 20892-8328, 240-276-6347, robersos@mail.nih.gov.

Name of Committee: National Cancer Institute Special Emphasis Panel, Process Analytic Technologies (PAT) for Biologics: Innovative Methods for Monitoring and Analyzing Product Quality.

Date: June 19, 2013.

Time: 9:00 a.m. to 1:00 p.m.

Agenda: To review and evaluate contract proposals.

Place: National Institutes of Health, 9609 Medical Center Drive, Room 2W034, Rockville, MD 20850 (Telephone Conference Call).

Contact Person: Thomas A. Winters, Ph.D., Scientific Review Officer, Special Review and Logistics Branch, Division of Extramural Activities, National Cancer Institute, NIH, 9609 Medical Center Drive, Room 7W268, Bethesda, MD 20892-8328, 240-276-6386, twinters@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: May 7, 2013.
Melanie J. Gray,
Program Analyst, Office of Federal Advisory Committee Policy.

[FR Doc. 2013-11345 Filed 5-13-13; 8:45 am]

BILLING CODE 4140-01-P